ENVIRONMENTAL PROTECTION AGENCY

[OPP-2002-0024; FRL-6832-9]

Acephate; Cancellation Order for Certain Uses and Products; Correction

AGENCY: Environmental Protection Agency (EPA).

ACTION: Notice; correction.

SUMMARY: In the Federal Register of March 6, 2002, EPA announced a notice of the cancellation order for all O,S-dimethyl acetylphosphoramidothioate (or acephate) product registrations cited in voluntary cancellation requests by acephate registrants (Valent USA Corporation, Micro Flo Company LLC, Drexel Chemical Company, United Phosphorus, Inc., Whitmire Micro-Gen Research Labs, The Scotts Company, and Pursell Technologies, Inc.), and approved by EPA, pursuant to section 6(f)(1) of the Federal Insecticide, Fungicide, and Rodenticide Act (FIFRA). In that notice, Table 2 under SUPPLEMENTARY INFORMATION was incorrectly printed. This document corrects that error.

FOR FURTHER INFORMATION CONTACT: By mail: Kimberly Nesci Lowe, Special Review and Reregistration Division (7508C), Office of Pesticide Programs, Environmental Protection Agency, 1200 Pennsylvania Ave., NW., Washington, DC 20460; telephone number: (703) 308-8059; fax number: (703) 308-8005; e-mail address: lowe.kimberly@epa.gov.

SUPPLEMENTARY INFORMATION: In the Federal Register of March 6, 2002 (67 FR 10193) (FRL-6824-9), EPA issued a notice of cancellation for certain O,S-dimethyl acetylphosphoramidothioate (or acephate) product registrations. On page 10195, Table 2 was incorrectly printed. The corrected Table 2 is printed below in its entirety.

Table 2.—Acephate End Use Products: Use Deletions and Use of Existing Stocks
Company | EUP Registration Number | Effective Date of Use Deletions: Indoor Residential | Effective Date of Use Deletions: Turfgrass | Last Date for Sale and Distribution of Existing Stocks by the Registrant
The Scotts Company | 239-2406 | N/A | No later than 10-31-02 | 12-31-02
| 239-2436 | N/A | No later than 10-31-02¹ | 12-31-02
| 239-2440 | 1-30-02 | N/A | 12-31-02
| 239-2461 | N/A | No later than 10-31-02¹ | 12-31-02
| 239-2632 | N/A | No later than 10-31-02 | 12-31-02
Whitmire Micro-Gen | 499-373 | 12-31-01 | N/A | 12-31-02
Drexel Chemical Co. | 19713-495 | 1-11-02 | N/A | 12-31-02
| 19713-497 | N/A | 1-28-02 | 12-31-02
Micro Flo Company | 51036-236 | N/A | 12-31-01 | 12-31-02
| 51036-252 | N/A | 1-28-02 | 12-31-02
| 51036-237 | 12-31-01 | N/A | 12-31-02
| 51036-337 | N/A | 12-31-01 | 12-31-02
Valent USA Corporation | 59639-26 | N/A | No later than 10-31-02 | 12-31-02
| 59639-28 | N/A | No later than 10-31-02 | 12-31-02
| 59639-31 | 1-11-02 | N/A | 12-31-02
| 59639-33 | N/A | No later than 10-31-02 | 12-31-02
| 59639-87 | N/A | No later than 10-31-02 | 12-31-02
| 59639-91 | N/A | No later than 10-31-02 | 12-31-02
United Phosphorus, Inc. | 70506-1 | N/A | No later than 10-31-02¹ | 12-31-02
Pursell Technologies | 73614-1 | N/A | 1-30-02 | 12-31-02
¹Exception for harvester ant control on turfgrass does not apply to this product; other turfgrass exceptions do apply.

Lists of Subjects

Environmental protection, Cancellation, Pesticides and pests.

Dated: April 3, 2002.
Lois A. Rossi,
Director, Special Review and Reregistration Division, Office of Pesticide Programs.

[FR Doc. 02-9072 Filed 4-12-02; 8:45 a.m.]

BILLING CODE 6560-50-S